SMALL BUSINESS ADMINISTRATION

[Declaration of Disaster #3339]

State of Wisconsin; Amendment #3

In accordance with a notice received from the Federal Emergency Management Agency, dated June 21, 2001, the above-numbered Declaration is hereby amended to include tornadoes as the incident type and to reopen the incident period for this disaster as beginning on April 10, 2001, and continuing.

All other information remains the same, i.e., the deadline for filing applications for physical damage is July 10, 2001 and for economic injury the deadline is February 11, 2002.

(Catalog of Federal Domestic Assistance Program Nos. 59002 and 59008)
Dated: June 21, 2001.
Herbert L. Mitchell,
Associate Administrator for Disaster Assistance.

[FR Doc. 01-16282 Filed 6-27-01; 8:45 am]

BILLING CODE 8025-01-P